DEPARTMENT OF THE INTERIOR

Minerals Management Service

Agency Information Collection Activities: Submitted for Office of Management and Budget (OMB) Review; Comment Request

AGENCY: Minerals Management Service (MMS), Interior.

ACTION: Notice of extension of an information collection (1010-0151).

SUMMARY: To comply with the Paperwork Reduction Act of 1995 (PRA), we are notifying the public that we have submitted to OMB an information collection request (ICR) to renew approval of the paperwork requirements in the regulations under 30 CFR 250, Subpart B “ Plans and Information, and related documents. This notice also provides the public a second opportunity to comment on the paperwork burden of these regulatory requirements.

DATES: Submit written comments by July 21, 2005.

ADDRESSES: You may submit comments on this information collection directly to the Office of Management and Budget (OMB) either by e-mail (OIRA_DOCKET@omb.eop.gov) or by fax (202) 395-6566, directly to the Office of Information and Regulatory Affairs, OMB, Attention: Desk Officer for the Department of the Interior (1010-0151).

Submit a copy of your comments to the Department of the Interior, MMS, via:

• MMS's Public Connect on-line commenting system, https://ocsconnect.mms.gov. Follow the instructions on the website for submitting comments.

• Fax: 703-787-1093. Identify with Information Collection Number 1010-0151.

• Mail or hand-carry comments to the Department of the Interior; Minerals Management Service; Attention: Rules Processing Team (RPT); 381 Elden Street, MS-4024; Herndon, Virginia 20170-4817. Please reference “Information Collection 1010-0151” in your comments.

FOR FURTHER INFORMATION CONTACT: Cheryl Blundon, Rules Processing Team, (703) 787-1600. You may also contact Cheryl Blundon to obtain a copy, at no cost, of the regulations that require the subject collection of information.

SUPPLEMENTARY INFORMATION: Title: 30 CFR part 250, Subpart B—Plans and Information.

OMB Control Number: 1010-0151.

Abstract: The Outer Continental Shelf (OCS) Lands Act, as amended (43 U.S.C. 1331 et seq. and 43 U.S.C. 1801 et seq.), authorizes the Secretary of the Interior (Secretary) to prescribe rules and regulations to administer leasing of the OCS. Such rules and regulations will apply to all operations conducted under a lease. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition. Sections 11 and 25 of the amended OCS Lands Act require the holders of OCS oil and gas or sulphur leases to submit exploration plans (EPs) or development and production plans (DPPs) to the Secretary for approval prior to commencing these activities.

Section 43 U.S.C. 1356 requires the issuance of “* * * regulations which require that any vessel, rig, platform, or other vehicle or structure * * * (2) which is used for activities pursuant to this subchapter, comply * * * with such minimum standards of design, construction, alteration, and repair as the Secretary * * * establishes * * *.” Section 43 U.S.C. 1332(6) also states, “operations in the [O]uter Continental Shelf should be conducted in a safe manner * * * to prevent or minimize the likelihood of * * * physical obstruction to other users of the water or subsoil and seabed, or other occurrences which may cause damage to the environment or to property, or endanger life or health.” These authorities and responsibilities are among those delegated to the Minerals Management Service (MMS) to ensure that operations in the OCS will meet statutory requirements; provide for safety and protection of the environment; and result in diligent exploration, development, and production of OCS leases.

MMS proposed a complete revision of the 30 CFR 250, subpart B regulations (67 FR 35372, May 17, 2002), and OMB approved the information collection requirements under control number 1010-0151, expiration June 2005. This submission is a renewal of the information requirements for the rulemaking and is required to prevent the expiration of OMB approval under 1010-0151; the ICR reflects what we expect to be in our final rulemaking, which is in surnaming.

Specifically, MMS uses the information to evaluate, analyze, determine, or ensure that:

• Ancillary activities comply with appropriate laws or regulations and are conducted safely, protect the environment, and do not interfere or conflict with the other uses of the OCS (i.e., military use, subsistence activity).

• Points of contact and responsible parties are designated for proposed activities.

• Surveying, monitoring, or other activities do not interfere or conflict with preexisting and other uses of the area.

• Plans or actions meet or implement lease stipulation requirements.

• Proposed exploration, drilling, production, and pipeline activities are conducted in a safe and acceptable manner for the location and water depth proposed and conserve reservoir energy to allow enhanced recovery operations in later stages of lease development.

• Unnecessary or incompatible facilities are not installed on the OCS.

• Shallow drilling hazards (such as shallow gas accumulations or mudslide areas) are avoided.

• Areas are properly classified for H2S, and appropriate procedures are in place.

• Appropriate oil spill planning measures and procedures are implemented.

• Expected meteorological conditions at the activity site are accommodated.

• Environmentally sensitive areas are identified, and the direct and cumulative effects of the activities are minimized.

• Offshore and onshore air quality is not significantly affected by the proposed activities.

• Waste disposal methods and pollution mitigation techniques are appropriate for local conditions.

• State CZM requirements have been met.

• Archaeological or cultural resources are identified and protected from unreasonable disturbances.

• Socioeconomic effects of the proposed project on the local community and associated services have been determined.

• Support infrastructures and associated traffic are adequately covered in plans.

The following forms used in the Gulf of Mexico Region (GOMR) are also submitted to MMS. With the exception of the last form, OMB approved these forms as part of the information collection for the current subpart B regulations.

• Form MMS-137 (Plan Information Form) is submitted to summarize plan information. MMS uses the information to assist in data entry and review of submitted OCS plans.

• Forms MMS-138 (GOM Air Emissions Calculations for Exploration Plans) and MMS-139 (GOM Air Emissions Calculations for Development Operations Coordination Documents (DOCDs)) are submitted to standardize the way potential air emissions are estimated and approved as part of the OCS plan. These forms are intended to be thorough but flexible to meet the needs of different operators. The data from these forms determine the air emissions on the environment.

• Form MMS-141 (ROV Survey Report) is submitted to report the observations and information recorded from two sets of ROV monitoring surveys to identify high-density biological communities that may occur on the seafloor in deep water. We use the information when such areas are found to help design mitigation measures to avoid these areas in the future. We also use the information to help assess the effectiveness of avoidance criteria and expand the knowledge base regarding the benthic habitats of the deep water seafloor.

• Form MMS-NEW (Environmental Impact Analysis Matrix) is a new fill in the blank matrix form proposed to be submitted to identify the environmental impact-producing factors (IPFs) for the listed environmental resources. We use the information to assess impact and determine compliance with the National Environmental Policy Act. A form number will be assigned when final regulations take effect.

We will protect information from respondents considered proprietary under the Freedom of Information Act (5 U.S.C. 552) and its implementing regulations (43 CFR Part 2) and under regulations at 30 CFR 250.196, “Data and information to be made available to the public”. No items of a sensitive nature are collected. Responses are mandatory.

Frequency: On occasion.

Estimated Number and Description of Respondents: Approximately 150 oil and gas or sulphur lessees.

Estimated Reporting and Recordkeeping “Hour” Burden: The estimated annual “hour” burden for this information collection is a total of 320,815 hours. The following chart details the individual components and estimated hour burdens. In calculating the burdens, we assumed that respondents perform certain requirements in the normal course of their activities. We consider these to be usual and customary and took that into account in estimating the burden.

Citation 30 CFR 250 subpart B | Reporting & recordkeeping requirement | Hour burden | Average No. annual responses | Annual burden hours
200 through 206 | General requirements for plans and information | Burden included with specific requirements below |  | 0
208 | Notify MMS and other users of the OCS before conducting ancillary activities | 10 | 23 notices | 230
210(a) | Submit report summarizing & analyzingdata/information obtained or derived from ancillary activities | 1 | 25 reports | 25
210(b) | Retain ancillary activities data/information | 2 | 150 recordkeepers | 300
211 through 228 | Submit EP and accompanying information (including forms MMS-137, MMS 138, MMS-NEW used in GOMR) and provide notifications | 640 | 200 plans | 128,000
232(d); 234; 235(a); 281(d)(3); 283; 284; 285 | Submit amended, modified, revised, or supplemental EP, or resubmit disapproved EP | 120 | 224 changed plans | 26,880
241 through 262 | Submit DPP or DOCD and accompanying information (including forms MMS-137, MMS 139, MMS-NEW used in GOMR) and provide notifications | 690 | 110 plans | 75,900
267(d); 272(a); 273, 283; 284; 285 | Submit amended, modified, revised, or supplemental DPP or DOCD, or resubmit disapproved DPP or DOCD | GOM 95 Pacific 600 | 250 changed plans 1 changed plan | 23,750 600
269(b) | Submit information on preliminary plans for leases or units in vicinity of proposed development and production activities | 2 | 1 response | 2
281(a) | Submit various applications | Burdens included under appropriate subpart or form (1010-0044; 1010-0059; 1010-0058; 1010-0050) |  | 0
282 | Retain monitoring data/information | 2 | 313 records | 626
| Submit monitoring plans | 1 | 30 plans | 30
282(b) | Submit monitoring reports and data (including form MMS-141 used in GOMR) | 2 | 2 each for 33 wells = 66 | 132
288 through 294 | Submit DWOP | 750 | 68 plans | 51,000
296 through 298 | Submit CID | 443 | 30 documents | 13,290
200 through 299 | General departure and alternative compliance requests not specifically covered elsewhere in subpart B regulations | 2 | 25 requests | 50
Total Burden |  |  | 1,516 | 320,815

Estimated Reporting and Recordkeeping “Non-Hour Cost” Burden: We have identified no paperwork “non-hour cost” burdens associated with the collection of information.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency ”* * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on December 17, 2004, we published a Federal Register notice (69 FR 75562) announcing that we would submit this ICR to OMB for approval. The notice provided the required 60-day comment period. In addition, § 250.199 provides the OMB control number for the information collection requirements imposed by the 30 CFR 250 regulations and forms. The regulation also informs the public that they may comment at any time on the collections of information and provides the address to which they should send comments. We have received no comments in response to these efforts.

If you wish to comment in response to this notice, you may send your comments to the offices listed under the ADDRESSES section of this notice. OMB has up to 60 days to approve or disapprove the information collection but may respond after 30 days. Therefore, to ensure maximum consideration, OMB should receive public comments by July 21, 2005.

Public Comment Procedure: MMS's practice is to make comments, including names and addresses of respondents, available for public review. If you wish your name and/or address to be withheld, you must state this prominently at the beginning of your comment. MMS will honor the request to the extent allowable by the law; however, anonymous comments will not be considered. All submissions from organizations or businesses, and from individuals identifying themselves as representatives or officials of organizations or businesses, will be made available for public inspection in their entirety.

MMS Information Collection Clearance Officer: Arlene Bajusz, (202) 208-7744.

Dated: Feburary 22, 2005.
E.P. Danenberger,
Chief, Office of Offshore Regulatory Program.

Editorial Note: This document was received in the Office of the Federal Register on June 15, 2005.

[FR Doc. 05-12133 Filed 6-20-05; 8:45 am]

BILLING CODE 4310-MR-P